NATIONAL COMMISSION ON LIBRARIES AND INFORMATION SCIENCE

Sunshine Act Meeting

AGENCY: The U.S. National Commission of Libraries and Information Science.

DATE, TIME, AND PLACE: Closed Meeting (Closing this meeting is taken in accordance with the exemption provided under Title 45, CFR, Part 1703.202(a)(9): February 17, 2000 from 8:30 a.m. to 10:30 a.m., Los Angeles Times Building, 145 South Spring Street, Los Angeles, CA. Discussion Topic: The National Award for Library Service. Open Meetings: February 17, 2000 from 10:45 a.m. to 5:00 p.m., Los Angeles Times Building, 145 South Spring Street, Los Angeles, CA.

MATTERS TO BE DISCUSSED: Administrative matters

Acting Chairperson's report

Executive Director's report

Discussion, Plans for NCLIS Hearing on Scholarly Publishing in April 2000

NCLIS Program/Committee Updates Sister Libraries, A White House Millennium Council Project

Update, The future of the National Technical Information Service

UNESCO relations

Presentation, Los Angeles Times Literacy Initiative (Reading by 9) February 18, 2000 from 10:00 a.m. to 1:00 p.m., Los Angeles Public Library, 630 W. Fifth Street, Meeting Room A.

DISCUSSION TOPIC: The role of the Commission in the areas of literacy and information literacy; focus will be on activities of school, academic and public libraries as well as Federal government initiatives.

For security reasons, the Los Angeles Times Building requires pre-registration for attendance. To attend meeting on February 17, please notify Barbara Whiteleather (telephone: 202-606-9200; fax: 202-606-9203; e-mail: bwhiteleather@nclis.gov) no later than one week in advance of the meeting.

To request further information or to make special arrangements for persons with disabilities, contact Barbara Whiteleather (telephone: 202-606-9200; fax: 202-606-9203; e-mail: bwhiteleather@nclis.gov) no later than one week in advance of the meeting.

Dated: January 7, 2000.
Robert S. Willard,
NCLIS Executive Director.

[FR Doc. 00-1793 Filed 1-21-00; 2:22 pm]

BILLING CODE 7527-$$-M